DEPARTMENT OF STATE

[Public Notice 11196]

60-Day Notice of Proposed Information Collection: Request To Change End-User, End-Use and/or Destination of Hardware

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 2, 2020.

ADDRESSES: You may submit comments by any of the following methods:

• Web: Persons with access to the internet may comment on this notice by going to www.Regulations.gov. You can search for the document by entering “Docket Number: DOS-2020-0038” in the Search field. Then click the “Comment Now” button and complete the comment form.

• Email: DDTCPublicComments@state.gov, ATTN: Advisory Opinion Form.

• Regular Mail: Send written comments to: Directorate of Defense Trade Controls, Department of State; 2401 E St. NW, Suite H1205, Washington, DC 20522.

You must include the DS form number (if applicable), information collection title, and the OMB control number in any correspondence.

FOR FURTHER INFORMATION CONTACT: Direct requests for additional information regarding the collection listed in this notice, including requests for copies of the proposed collection instrument and supporting documents, to Andrea Battista, Directorate of Defense Trade Controls, Department of State, who may be reached at BattistaAl@state.gov or 202-663-3136 (please include subject line “ATTN: Advisory Opinion Form”).

SUPPLEMENTARY INFORMATION: • Title of Information Collection: Request to Change End-User, End-Use and/or Destination of Hardware.

• OMB Control Number: 1405-0173.

• Type of Request: Revision of a Currently Approved Collection.

• Originating Office: T/PM/DDTC.

• Form Number: DS-6004.

• Respondents: Individuals, Business, or Nonprofit Organizations engaged in the business of exporting or temporarily importing defense articles or defense services.

• Estimated Number of Respondents: 1,563.

• Estimated Number of Responses: 1,563.

• Average Time Per Response: 1 hour.

• Total Estimated Burden Time: 1,563 hours.

• Frequency: On occasion.

• Obligation to Respond: Voluntary.

We are soliciting public comments to permit the Department to:

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Request to Change End-User, End-Use and/or Destination of Hardware information collection is used to request DDTC approval prior to any sale, transfer, transshipment, or disposal, whether permanent or temporary, of classified or unclassified defense articles to any end-user, end-use or destination other than as stated on a license or other approval.

Methodology

Applicants are referred to ITAR 123.9 for guidance on information to submit regarding the request to change end-user, end-use and/or destination of hardware. A DS-6004 may be submitted electronically through DDTC's case management system, The Defense Export Control and Compliance System (DECCS).

Neal Kringel,
Director of Management, Directorate of Defense Trade Controls, Department of State.

[FR Doc. 2020-19396 Filed 9-1-20; 8:45 am]

BILLING CODE 4710-25-P